DEPARTMENT OF HEALTH AND HUMAN SERVICES

Agency for Toxic Substances and Disease Registry

[Program Announcement 01103]

Alaska Traditional Diet Project; Notice of Availability of Funds

A. Purpose

The Agency for Toxic Substances and Disease Registry (ATSDR) announces the availability of fiscal year (FY) 2001 funds for a grant program for the Alaska Traditional Diet Project. This program addresses the “Healthy People 2010” focus areas for Environmental Health; Maternal, Infant, and Child Health; and Educational and Community-Based Programs.

Congress has directed ATSDR to identify and study contaminants in the environment, subsistence resources, and people in Alaska Native populations. The scope of the project covers all users of Alaska traditional foods, including subsistence, commercial and recreational, and does not focus solely on Alaska Native users.

The purpose of the program is to begin defining the dietary consumption patterns of rural Alaska subsistence diet users. This dietary information will be used by Alaskans for public health data collection. The data collected will support other efforts by public health entities in Alaska to better define both the risk of exposures to environmental contaminants in the diet and the nutritional benefits of the foods. Due to the diversity of lifestyles, cultures, and foods harvested in different areas of Alaska, dietary consumption data collections must be completed in various regions of Alaska.

B. Eligible Applicants

Assistance will be provided only to the Alaska Native Health Board. No other applications are solicited. The fiscal year 2001 Federal appropriations specifically direct ATSDR to study contaminants in the environment, subsistence resources, and people in Alaska Native populations. The Alaska Native Health Board (ANHB) is uniquely qualified to coordinate activities as directed by the congressionally appropriated money to ATSDR since it's programs and functions are directed by the 22 Alaska Native regional health organizations that serve 108,000 Alaska Natives. ANHB's activities have evolved to provide statewide support through technical assistance, research, wellness, environmental and contaminant programs.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $350,000 is available in FY 2001 to fund one award. It is expected that the award will begin on or about September 30, 2001, and will be made for a 12-month budget period within a project period of one year. Funding estimates may change.

Use of Funds

Funds may be expended for reasonable program purposes, such as personnel, travel, supplies, and services. Funds for contractual services may be requested; however, the awardee, as the direct and primary recipient of ATSDR grant funds, must perform a substantive role in carrying out project activities and not merely serve as a conduit for an award to another party or provide funds to an ineligible party. Equipment may be purchased with grant funds. However, the equipment proposed should be appropriate and reasonable for the research activity to be conducted. Property may be acquired only when authorized in the grant. The awardee, as part of the application process, should provide a justification of need to acquire property, the description, and the cost of purchase versus lease. At the completion of the project, the equipment will be returned to ATSDR.

D. Program Requirements

The purpose of the program is to define the dietary consumption patterns of rural Alaska subsistence diet users. Data from this grant will be utilized by the public health agencies and organizations in Alaska, and the Alaska Native health corporations, as they develop a coordinated response to contaminant issues in traditional food supplies.

In conducting activities to achieve the purpose and objectives of this program, the recipient will be responsible for the following activities:

1. Identify an appropriate Alaska-specific dietary survey. The survey (or surveys) should contain a core section that is applicable to all Alaska regions and provide for the collection of regional-specific information as appropriate.

2. Establish an ad hoc oversight group to provide advice on the identification of regions to be surveyed and to advise on other technical aspects on the conduct of the survey.

3. Conduct training for the staff selected to conduct the survey and for staff compiling the data.

4. Provide education and consultation with the communities selected regarding the program throughout the various stages of the survey implementation.

5. Identify regions in Alaska to be surveyed; and complete the surveys within the defined populations to include needed seasonal variations and complete definition of diets within the regions being surveyed. The data collected should also include the amounts of traditional foods consumed by Alaska Native villagers and others residing in the villages, the portion of the diet that is non-traditional, seasonal dietary variations, and the methods of preservation and preparation of the food items.

6. Compile the data, extracting the information as appropriate, and organizing the results in a database format that can be utilized for inter-regional analysis.

E. Application Content

In a narrative form, the application should include a discussion of areas under the “Evaluation Criteria” section of this announcement as they relate to the proposed program. These criteria serve as the basis for evaluating the application; therefore, omissions or incomplete information may affect the rating of the application. This program does not require in-kind support or matching funds, however, the applicant should describe any in-kind support in the application.

The narrative should be no more than 25 pages, double-spaced, printed on one-side, with 1″ margins, and unreduced fonts (font size 12 point) on 8½″ by 11″ paper. The pages must be clearly numbered, and a complete index to the application and its appendices must be included. The original and two copies of the application must be submitted unstapled and unbound.

F. Submission and Deadline

Submit the original and two copies of PHS 5161-1 (OMB Number 0937-0189). Forms are available at the following Internet address: www.cdc.gov/od/pgo/forminfo.htm, or in the application kit.

On or before August 15, 2001, submit the application to the Grants Management Specialist identified in the “Where to Obtain Additional Information” section of this announcement.

G. Evaluation Criteria

The application will be evaluated against the following criteria by an independent review group appointed by ATSDR.

1. Proposed Program (50 percent)

The extent to which the application addresses:

(a) The approach, feasibility, adequacy, and rationale of the proposed project design;

(b) the technical merit of the proposed project, including the degree to which the project can be expected to yield results that meet the program description as described in the purpose and program requirements sections of the announcement;

(c) the proposed project timeline, including clearly established project objectives for which progress toward attainment can and will be measured;

(d) the proposed community involvement strategy;

(e) the proposed method to disseminate the results to the village communities and tribal governments, State and local public health officials, and other concerned individuals and organizations;

(f) a plan for evaluating the project's effectiveness in meeting the objectives.

2. Program Personnel (25 percent)

The extent to which the application has described the qualifications, experience, and commitment of the principal investigator (or project director) and his/her ability to devote adequate time and effort to provide effective leadership.

3. Applicant Capability and Coordination Efforts (25 percent)

The extent to which the application has described:

(a) the capability of the applicant's administrative structure to foster successful scientific and administrative management of the program;

(b) the capability of the applicant to demonstrate an appropriate plan for interaction with the community; and

(c) the level of collaboration needed to conduct the program; and demonstrate that an advisory group can be established at the onset of the project.

4. Program Budget—(not scored)

The extent to which the budget is reasonable, clearly justified, and consistent with intended use of cooperative agreement/grant funds.

5. Human Subjects (not scored)

Does the application adequately address the requirements of Title 45 CFR part 46 for the protection of human subjects?

H. Other Requirements

Technical Reporting Requirements

Provide CDC with original plus two copies of—

1. Annual progress report;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I of the announcement in the application kit.

AR-10 Smoke-Free Workplace Requirements

AR-11 Healthy People 2010

AR-12 Lobbying Restrictions

AR-18 Cost Recovery—ATSDR

AR-19 Third Party Agreements—ATSDR

I. Authority and Catalog of Federal Domestic Assistance Number

This program is authorized under section 104 (i)(5)(A) of the Comprehensive Environmental Response, Compensation and Liability Act (CERCLA) of 1980 as amended by the Superfund Amendments and Reauthorization Act (SARA) of 1986 [42 U.S.C. 9604 (i)(5)(9A), and (15)] and U.S. Senate Report 106-410. The Catalog of Federal Domestic Assistance number is 93.161.

J. Where To Obtain Additional Information

This and other ATSDR announcements can be found on the CDC home page Internet address— http://www.cdc.gov. Click on “Funding” then “Grants and Cooperative Agreements.”

If you have questions after reviewing the contents of all the documents, business management technical assistance may be obtained from:

Nelda Y. Godfrey, Grants Management Specialist, Grants Management Branch, Procurement and Grants Office, Centers for Disease Control and Prevention, 2920 Brandywine Road, Room 3000, Atlanta, GA 30341-4146, Telephone number: 770-488-2722, Email address: nag9@cdc.gov

For program technical assistance, contact: Leslie C. Campbell, Environmental Health Scientist, Division of Health Assessment and Consultation, Agency for Toxic Substances and Disease Registry, 1600 Clifton Road, MS E-32, Atlanta, GA 30333, Telephone number: 404-498-0473, Email address: lcampbell@cdc.gov

or

William Cibulas, Chief, Research Implementation Branch, Division of Toxicology, Agency for Toxic Substances and Disease Registry, 1600 Clifton Road, MS E-29, Atlanta, GA 30333, Telephone number: 404-498-0715, Email address: wcibulas@cdc.gov.

Dated: June 26, 2001.
Georgi Jones,
Director, Office of Policy and External Affairs, Agency for Toxic Substances and Disease Registry.

[FR Doc. 01-16626 Filed 7-2-01; 8:45 am]

BILLING CODE 4163-70-P